DEPARTMENT OF ENERGY

Federal Energy Regulatory Commission

[Project No. 14775-000]

Marine Renewable Energy Collaborative of New England; Notice of Preliminary Permit Application Accepted for Filing and Soliciting Comments, Motions To Intervene, and Competing Applications

On April 20, 2016, the Marine Renewable Energy Collaborative of New England filed an application for a preliminary permit, pursuant to section 4(f) of the Federal Power Act (FPA), proposing to study the feasibility of the Cape Cod Canal and Bourne Tidal Test Site (Cape Cod Canal Test Site or project) to be located on the Cape Cod Canal, near the Town of Bourne, in Barnstable County, Massachusetts. The sole purpose of a preliminary permit, if issued, is to grant the permit holder priority to file a license application during the permit term. A preliminary permit does not authorize the permit holder to perform any land-disturbing activities or otherwise enter upon lands or waters owned by others without the owners' permission.

The proposed project would consist of: (1) A 45-foot-high, 23-foot-wide support structure; (2) a 25-kilowatt turbine-generator unit; (3) a 500 to 7,500-foot-long, 13.2-kilovolt (kV) transmission; and (4) appurtenant facilities. The estimated average annual generation of the project would be 54.7 gigawatt-hours. The project would occupy approximately 0.5 acres of federal land under the jurisdiction of the U.S. Army Corps of Engineers.

Applicant Contact: Mr. John Miller, Executive Director, Marine Renewable Energy Collaborative of New England, P.O. Box 479, Marion, Massachusetts 02738; phone: (508) 728-5825.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14775-000.

More information about this project, including a copy of the application, can be viewed or printed on the “eLibrary” link of Commission's Web site at http://www.ferc.gov/docs-filing/elibrary.asp. Enter the docket number (P-14775) in the docket number field to access the document. For assistance, contact FERC Online Support.

Dated: July 14, 2016.
Kimberly D. Bose,
Secretary.

[FR Doc. 2016-17126 Filed 7-19-16; 8:45 am]

BILLING CODE 6717-01-P